ENVIRONMENTAL PROTECTION AGENCY

[EPA-HQ-OAR-2007-1121; FRL-9928-37-OAR]

Proposed Information Collection Request; Comment Request; Fuel Quality Regulations for Diesel Fuel Sold in 2001 and Later Years; for Tax-Exempt (Dyed) Highway Diesel Fuel; & Non-Road Locomotive & Marine Diesel Fuel (Renewal)

AGENCY: Environmental Protection Agency (EPA).

ACTION: Notice.

SUMMARY: The Environmental Protection Agency is planning to submit an information collection request (ICR), “Fuel Quality Regulations for Diesel Fuel Sold in 2001 & Later Years; for Tax-Exempt (Dyed) Highway Diesel Fuel; & Non-Road Locomotive & Marine Diesel Fuel” (EPA ICR No 1718.10., OMB Control No. 2060-0308 to the Office of Management and Budget (OMB) for review and approval in accordance with the Paperwork Reduction Act (44 U.S.C. 3501 et seq.). Before doing so, EPA is soliciting public comments on specific aspects of the proposed information collection as described below. This is a renewal of the ICR, which is currently approved through January 31, 2016. An Agency may not conduct or sponsor and a person is not required to respond to a collection of information unless it displays a currently valid OMB control number.

DATES: Comments must be submitted on or before July 28, 2015.

ADDRESSES: Submit your comments, referencing Docket ID No. EPA-HQ-OAR-2007-1121, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J, Environmental Protection Agency, 1200 Pennsylvania Ave. NW., Washington, DC 20460; telephone number: 202-343-9017; fax number: 202-565-2085; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR renewal is related to EPA's diesel fuel regulations under 40 CFR part 80, subpart I, applicable to highway (“motor vehicle” or “MV”) diesel fuel and non-road, locomotive and marine diesel fuel (NRLM) and heating oil (HO). Most of the information collected under this ICR is used to evaluate compliance with the requirements of the regulations. Since virtually all MV diesel fuel was required to meet a 15 part per million (ppm) standard as of June 1, 2010, very little reporting related to MV diesel fuel remains. However, reporting related to NRLM and HO will continue throughout the course of this proposed ICR renewal. The activities associated with this ICR include: Registration (all parties have registered; updates to existing registrations are still possible); compliance reports (mostly covering NRLM and HO; updates to prior compliance reports for MV diesel are still possible); research and development (R&D) exemptions; generation and retention of quality assurance (QA) records and foreign refiner recordkeeping and reporting. This ICR renewal contains provisions related to qualification of laboratories on performance-based test methods.

Form Numbers: 12.

DSF0100 Form: Diesel Fuel Sulfur Credit Banking and Generation Report—5900-351

DSF0200 Form: Diesel Fuel Sulfur Credit Transfer Report—5900-333

DSF Form: ECA Marine Fuel Precision Demonstration—5900-352

DSF0302 Form: Diesel Fuel Facility Report—5900-323

DSF0401 Form: Diesel Fuel Sulfur Batch Report—5900-324

DSF0504 Forms: Designated and Track Handoff Report—5900-325

DSF0601 Designate and Track Total Volume Report—5900-326

DSF0700 Designate Track Facility Compliance Report—5900-327

DSE0700 Form: Designate and Track Entity Compliance Report—5900-328

DSE0900 Form: Motor Vehicle Diesel Sulfur Pre-Compliance Report—5900-329

DSF0951 Form: NRLM Diesel Sulfur Pre-Compliance Report—5900-350

DLQ001 Form: (Used for lab test method)—EPA-420-B-14-066a

Respondents/affected entities: Private businesses selling diesel fuel.

Respondent's obligation to respond: mandatory.

Estimated number of respondents: 6,806 (total).

Frequency of response: quarterly, annually, on occasion.

Total estimated burden: 11,078 hours (per year). Burden is defined at 5 CFR 1320.03(b).

Total estimated cost: $1,122,716 (per year), includes $0 annualized capital or operation & maintenance costs.

Changes in Estimates: For this renewal, we estimated a total annual respondent burden of 25,553 reports, a decrease of 239,853 reports from the last ICR approved by OMB. The number of hours decreased from 18,950 hours to 11,078 hours, a difference of 7,902 hours per year. The annual reporting and hourly burden decreased due to an expiring yellow 124 provision no longer required for diesel fuel. In this renewal, the Agency is also adding the electronic ECA Marine Fuel Precision Demonstration form. A contributing factor to the lowering of the industry cost was the salaries quoted in the “Bureau of Labor Statistics, May 2013 National Industry-Specific Occupational Employment and Wage Estimates, mean wages.” The salaries that assisted in calculating the labor mix had slightly declined. This change has caused a decrease in the cost per report in this collection from $110 per report to $101 per report. The total estimated cost to industry is $1,122,716 a year, a difference of $ 961,784 calculated from the prior collection approved by OMB. For future approvals, we project that the cost to report will decrease significantly. The burden related to MV diesel reporting will phase out and virtually all laboratory qualification applications for test methods will be completed, decreasing total industry burden.

Dated: May 20, 2015.
Byron Bunker,
Director, Compliance Division, Office of Transportation and Air Quality, Office of Air and Radiation.

[FR Doc. 2015-13028 Filed 5-28-15; 8:45 am]

BILLING CODE 6560-50-P